DEPARTMENT OF THE INTERIOR

Bureau of Land Management

[CA-660-02-1610-DO]

Proposed California Desert Conservation Area Plan Amendment Palm Springs-South Coast Field Office, California

AGENCY: Bureau of Land Management, Interior.

ACTION: Notice of intent.

SUMMARY: This notice is an addendum to the notice of intent published June 28, 2000 (pages 39920-39922) for the Coachella Valley Multiple Species Habitat Conservation Plan (CVMSHCP) and California Desert Conservation Area (CDCA) Plan Amendment. In compliance with the National Environmental Policy Act of 1969 (NEPA), the Federal Land Policy Management Act of 1976 (FLPMA) and the Code of Federal Regulations (40 CFR 1501.7, 43 CFR 1610.2), notice is hereby given that the Bureau of Land Management (BLM), in collaboration with the Coachella Valley Association of Governments (CVAG), is preparing a joint Environmental Impact Statement/Environmental Impact Report (EIS/EIR) for the CVMSHCP and CDCA Plan Amendment. The CDCA Plan Amendment planning boundary extends beyond the CVMSHCP planning boundary (described below), incorporating BLM-managed public lands within the Santa Rosa Wilderness and public lands surrounding Coyote Canyon in Riverside County, and those portions of the San Gorgonio Wilderness and Big Morongo Canyon Area of Critical Environmental Concern (ACEC) within San Bernardino County. The CDCA Plan Amendment does not include lands within BLM's South Coast planning area.

The BLM invites the public to participate in this planning and NEPA process. Citizens are requested to help identify significant issues or concerns to be addressed in the draft CDCA Plan amendment and to provide input on BLM's proposed planning criteria described below under SUPPLEMENTARY INFORMATION.

DATES: All comments received shall be taken into consideration prior to issuance of the Record of Decision. Please submit any scoping or proposed planning criteria comments in writing, 30-days from the date of this notice to ensure inclusion in the draft plan/EIS.

ADDRESSES: Written comments may be forwarded to the following address: Mr. James G. Kenna, Field Manager, Bureau of Land Management, Palm Springs-South Coast Field Office, 690 W. Garnet Ave., PO Box 581260, North Palm Springs, CA 92258-1260. Citizens submitting written comments will automatically be included in the mailing list to receive an electronic copy of the Draft CVMSHPC/CDCA Plan Amendment and joint EIS/EIR.

FOR FURTHER INFORMATION CONTACT: Ms. Elena Misquez, Planning and Environmental Coordinator, Bureau of Land Management, Palm Springs-South Coast Field Office, telephone (760) 251-4800.

SUPPLEMENTARY INFORMATION: The CVMSHCP planning boundary encompasses 1,205,780 acres located in the central portion of Riverside County, California. The CVMSHCP planning boundary generally is defined by the ridgelines of the San Jacinto, Santa Rosa and Little San Bernardino Mountains, extending to the Imperial and San Diego County lines from the Cabazon/San Gorgonio Pass area in the northwest to and including, portions of the Salton Sea to the southeast. Approximately 24 percent of the planning area consists of BLM-managed public lands, while private lands total about 43 percent. The remaining 33 percent includes Native American, State and other public and quasi-public lands.

The CDCA Plan Amendment planning boundary extends beyond the CVMSHCP planning boundary, incorporating BLM-managed public lands within the CDCA boundary in Riverside County in the vicinity of Coyote Canyon and the Santa Rosa Wilderness (Township 8 South, Ranges 4 and 5 East), and those portions of the San Gorgonio Wilderness and Big Morongo Canyon ACEC within San Bernardino County (Townships 1 North and 1 South, Ranges 3, 4 and 5 East.).

Proposals and alternatives (including the “no action” alternative) to be addressed include opportunities for new off-highway vehicle open areas, wind energy projects, saleable minerals extraction and communication sites, establishment of air quality and fire management guidelines for the public lands, identification of changes in land use classification, new ACEC designations and public lands available for disposal, a re-evaluation of the wild horse and burro program in Palm Canyon and grazing in the Whitewater Canyon allotment, in addition to the multiple species conservation program being considered for the Coachella Valley. To ensure the aforementioned proposals are in conformance with the CDCA Plan, an amendment to the CDCA Plan is required.

The following types of issues are anticipated to be addressed through this planning process: (1) Recovery of threatened and endangered species and the avoidance of future listings, (2) identifying compatible multiple uses within and outside the CVMSHCP reserve areas, (3) improving quality of life in the Coachella Valley by implementing practices which promote a healthy environment and by providing safe and enjoyable recreational opportunities, (4) designate routes of travel for motorized vehicle access, (5) address management of grazing and wild horse and burros in the mountains surrounding the Coachella Valley.

In compliance with 43 CFR 1610.4-2, the BLM requests public input on the following proposed planning criteria, which will guide development and establish “sideboards” for preparation of the CDCA Plan Amendment. Please submit any comments in writing to the BLM address listed above no later than 30 days from the date of this Federal Register notice. Development of the CDCA Plan Amendment shall be conducted:

▸ In compliance with all applicable laws, regulations and policies which address such pertinent topics as BLM's multiple use mandate, valid existing rights, the Bureau's energy policy, ACECs, threatened and endangered species, route designation, land health, habitat and range management, cultural resources, Native American consultation, water quality, air quality, wilderness and other topics.

▸ In close coordination with the local jurisdictions, State and other Federal agencies to ensure consistency with the CVMSHCP. BLM shall also consider updating its ACEC and Wildlife Habitat Management Plans to ensure consistency with the CVMSHCP.

▸ To the extent practicable, without revising proposed decisions made through the Northern and Eastern Colorado Desert Plan.

▸ Considering relevant plans such as Recovery Plans prepared by the US Fish and Wildlife Service, the Agua Caliente Band of Cahuilla Indians Land Management Plan, and other plans.

▸ Such that nothing in the proposed plan amendment shall have the effect of terminating any validly issued rights-of-way or customary operation, maintenance, repair, and replacement activities in such rights-of-ways in accordance with sections 509(a) and 701(a) of FLPMA.

Selection of the preferred alternative will be based on the following proposed planning criteria:

▸ Promote long-term recovery and viability of native flora and fauna.

▸ Do not unduly burden Bureau resources and funding capability, including maintenance activities.

▸ Consider the manageability and implementability of approved actions relative to the urban/wildland interface and the public/private interface.

▸ Provide for multiple-use opportunities on the public lands throughout the Coachella Valley landscape, including recreation and energy-related projects.

▸ Seek to achieve common goals set forth in the CVMSHCP, selection of the preferred alternative shall be conducted in close coordination with the local jurisdictions to promote land management consistency, effectiveness and cost efficiency across jurisdictional boundaries.

An interdisciplinary team of BLM staff and contract specialists has been assembled to work on the plan amendment, representing the following disciplines: Wind energy, communications, socio-economics, minerals management, lands and realty, range management, recreation, wildlife, botany, cultural resources, air, water, soils, wilderness, wild and scenic rivers, planning, NEPA and other disciplines.

Citizens who wish to be actively involved with development of the CVMSHCP and CDCA Plan Amendment are encouraged to attend the Project Advisory Group (PAG) meetings held generally every fourth Thursday of the month starting at 9 a.m. in the CVAG conference room, 73-710 Fred Waring Drive, Palm Desert, CA 92260. Please contact the CVAG office at (760) 346-1127 for specific meeting dates.

Dated: February 7, 2002.
James G. Kenna,
Field Manager.

[FR Doc. 02-8876 Filed 4-11-02; 8:45 am]

BILLING CODE 4310-40-P